DEPARTMENT OF COMMERCE

Bureau of the Census

[Docket Number 110921596-1557-01]

Voting Rights Act Amendments of 2006, Determinations Under Section 203

AGENCY: Bureau of the Census, Department of Commerce.

ACTION: Notice of determination.

SUMMARY: As required by Section 203 of the Voting Rights Act of 1965, as amended, this notice publishes the Bureau of the Census (Census Bureau) Director's determinations as to which political subdivisions are subject to the minority language assistance provisions of the Act. As of this date, those jurisdictions that are listed as covered by Section 203 have a legal obligation to provide the minority language assistance prescribed by the Act.

DATES: Effective Date: This notice is effective on October 13, 2011.

FOR FURTHER INFORMATION CONTACT: For information regarding this notice, please contact Ms. Catherine M. McCully, Chief, Census Redistricting Data Office, Bureau of the Census, United States Department of Commerce, Room DIR 8H019, 4600 Silver Hill Rd, Washington DC 20233, by telephone at 301-763-4039, or visit the Redistricting Data Office Internet site at http://www.census.gov/rdo/.

For information regarding the applicable provisions of the Act, please contact T. Christian Herren, Jr., Chief, Voting Section, Civil Rights Division, United States Department of Justice, Room 7254-NWB, 950 Pennsylvania Avenue, NW., Washington, DC 20530, by telephone at (800) 253-3931 or visit the Voting Section Internet site at http://www.justice.gov/crt/about/vot/.

SUPPLEMENTARY INFORMATION: In July 2006, Congress amended the Voting Rights Act of 1965, Title 42, United States Code (U.S.C.), 1973 et seq. (See Pub. L. 109-246, 120 Stat. 577 (2006)). Among other changes, the sunset date for minority language assistance provisions set forth in Section 203 of the Act was extended to August 5, 2032.

Section 203 mandates that a state or political subdivision must provide language assistance to voters if more than five (5) percent of voting age citizens are members of a single-language minority group and do not “speak or understand English adequately enough to participate in the electoral process” and if the rate of those citizens who have not completed the fifth grade is higher than the national rate of voting age citizens who have not completed the fifth grade. When a state is covered for a particular language minority group, an exception is made for any political subdivision in which less than five (5) percent of the voting age citizens are members of the minority group and are limited in English proficiency, unless the political subdivision is covered independently. A political subdivision is also covered if more than 10,000 of the voting age citizens are members of a single-language minority group, do not “speak or understand English adequately enough to participate in the electoral process,” and the rate of those citizens who have not completed the fifth grade is higher than the national rate of voting age citizens who have not completed the fifth grade.

Finally, if more than five (5) percent of the American Indian or Alaska Native voting age citizens residing within an American Indian Reservations (and off-reservation trust lands) are members of a single language minority group, do not “speak or understand English adequately enough to participate in the electoral process,” and the rate of those citizens who have not completed the fifth grade is higher than the national rate of voting age citizens who have not completed the fifth grade, any political subdivision, such as a county, which contains all or any part of that Indian reservation, is covered by the minority language assistance provision set forth in Section 203. An American Indian Reservation is defined as any area that is an American Indian or Alaska Native area identified for purposes of the decennial census. For the 2010 Census, these areas were identified by the federally recognized tribal governments, Bureau of Indian Affairs, and state governments. The Census Bureau worked with American Indian tribes and Alaska Natives to identify statistical areas, such as Oklahoma Tribal Statistical Areas (OTSA), State Designated Tribal Statistical Areas (SDTSA), and Alaska Native Village Statistical Areas (ANVSA).

Pursuant to Section 203, the Census Bureau Director has the responsibility to determine which states and political subdivisions are subject to the minority language assistance provisions of Section 203. The state and political subdivisions obligated to comply with the requirements are listed in the attachment to this Notice.

Section 203 also provides that the “determinations of the Director of the Census under this subsection shall be effective upon publication in the Federal Register and shall not be subject to review in any court.” Therefore, as of this date, those jurisdictions that are listed as covered by Section 203 have legal obligation to provide the minority language assistance prescribed in Section 203 of the Act. In the cases, where a state is covered, those counties or county equivalents not displayed in the attachment are exempt from the obligation. Those jurisdictions subject to Section 203 of the Act previously, but not included on the list below, are no longer obligated to comply with Section 203. The previous determinations under Section 4(f)(4) of the Voting Rights Act remain in effect and are unaffected by this determination. (See Title 28, Code of Federal Regulations, part 55, Appendix (2010)).

Dated: October 5, 2011.
Robert M. Groves,
Director, Bureau of the Census.

Covered Areas for Voting Rights Bilingual Election Materials—2010
State and political subdivision | Language minority group
Alaska:
Aleutians East Borough | Asian (Filipino).
Aleutians East Borough | Hispanic.
Aleutians West Census Area | Asian (Filipino).
Bethel Census Area | Alaska Native (Inupiat).
Bethel Census Area | Alaska Native (Yup'ik).
Dillingham Census Area | Alaska Native (Yup'ik).
Nome Census Area | Alaska Native (Inupiat).
Nome Census Area | Alaska Native (Yup'ik).
North Slope Borough | Alaska Native Tribe—Tribe not Specified.
North Slope Borough | Alaska Native (Inupiat).
Northwest Arctic Borough | Alaska Native (Inupiat).
Wade Hampton Census Area | Alaska Native (Inupiat).
Wade Hampton Census Area | Alaska Native (Yup'ik).
Yukon-Koyukuk Census Area | Alaska Native (Alaskan Athabascan).
Arizona:
Apache County | American Indian (Navajo).
Apache County | American Indian (Pueblo).
Coconino County | American Indian (Hopi).
Coconino County | American Indian (Navajo).
Coconino County | American Indian (Yuma).
Maricopa County | American Indian (Tohono O'Odham).
Maricopa County | Hispanic.
Mohave County | American Indian (Yuma).
Navajo County | American Indian (Hopi).
Navajo County | American Indian (Navajo).
Pima County | American Indian (Tohono O'Odham).
Pima County | American Indian (Yaqui).
Pima County | Hispanic.
Pinal County | American Indian (Tohono O'Odham).
Santa Cruz County | Hispanic.
Yavapai County | American Indian (Yuma).
Yuma County | American Indian (Yuma).
Yuma County | Hispanic.
California:
State Coverage | Hispanic.
Alameda County | Asian (Chinese).
Alameda County | Asian (Filipino).
Alameda County | Hispanic.
Alameda County | Asian (Vietnamese).
Colusa County | Hispanic.
Contra Costa County | Hispanic.
Fresno County | Hispanic.
Glenn County | Hispanic.
Imperial County | Hispanic.
Kern County | Hispanic.
Kings County | Hispanic.
Los Angeles County | Asian (Asian Indian).
Los Angeles County | Asian (Chinese).
Los Angeles County | Asian (Filipino).
Los Angeles County | Hispanic.
Los Angeles County | Asian (Japanese).
Los Angeles County | Asian (Korean).
Los Angeles County | Asian (Other Asian—Not specified).
Los Angeles County | Asian (Vietnamese).
Madera County | Hispanic.
Merced County | Hispanic.
Monterey County | Hispanic.
Napa County | Hispanic.
Orange County | Asian (Chinese).
Orange County | Hispanic.
Orange County | Asian (Korean).
Orange County | Asian (Vietnamese).
Riverside County | Hispanic.
Sacramento County | Asian (Chinese).
Sacramento County | Hispanic.
San Benito County | Hispanic.
San Bernardino County | Hispanic.
San Diego County | Asian (Chinese).
San Diego County | Asian (Filipino).
San Diego County | Hispanic.
San Diego County | Asian (Vietnamese).
San Francisco County | Asian (Chinese).
San Francisco County | Hispanic.
San Joaquin County | Hispanic.
San Mateo County | Asian (Chinese).
San Mateo County | Hispanic.
Santa Barbara County | Hispanic.
Santa Clara County | Asian (Chinese).
Santa Clara County | Asian (Filipino).
Santa Clara County | Hispanic.
Santa Clara County | Asian (Vietnamese).
Stanislaus County | Hispanic.
Tulare County | Hispanic.
Ventura County | Hispanic.
Colorado:
Costilla County | Hispanic.
Denver County | Hispanic.
Rio Grande County | Hispanic.
Connecticut:
Bridgeport town | Hispanic.
East Hartford town | Hispanic.
Hartford town | Hispanic.
Meriden town | Hispanic.
New Britain town | Hispanic.
New Haven town | Hispanic.
New London town | Hispanic.
Waterbury town | Hispanic.
Windham town | Hispanic.
Florida:
State Coverage | Hispanic.
Broward County | Hispanic.
Hardee County | Hispanic.
Hendry County | Hispanic.
Hillsborough County | Hispanic.
Lee County | Hispanic.
Miami-Dade County | Hispanic.
Orange County | Hispanic.
Osceola County | Hispanic.
Palm Beach County | Hispanic.
Polk County | Hispanic.
Hawaii:
Honolulu County | Asian (Chinese).
Honolulu County | Asian (Filipino).
Honolulu County | Asian (Japanese).
Maui County | Asian (Filipino).
Illinois:
Cook County | Asian (Asian Indian).
Cook County | Asian (Chinese).
Cook County | Hispanic.
DuPage County | Hispanic.
Kane County | Hispanic.
Lake County | Hispanic.
Kansas:
Finney County | Hispanic.
Ford County | Hispanic.
Grant County | Hispanic.
Seward County | Hispanic.
Maryland:
Montgomery County | Hispanic.
Massachusetts:
Boston city | Hispanic.
Chelsea city | Hispanic.
Fitchburg city | Hispanic.
Holyoke city | Hispanic.
Lawrence city | Hispanic.
Lowell city | Hispanic.
Lynn city | Hispanic.
Quincy city | Asian (Chinese).
Revere city | Hispanic.
Southbridge town | Hispanic.
Springfield city | Hispanic.
Worcester city | Hispanic.
Michigan:
Clyde township ¹ | Hispanic.
Hamtramck city | Asian (Bangladeshi).
Hartford city | Hispanic.
Mississippi:
Attala County | American Indian (Choctaw).
Jackson County | American Indian (Choctaw).
Jones County | American Indian (Choctaw).
Kemper County | American Indian (Choctaw).
Leake County | American Indian (Choctaw).
Neshoba County | American Indian (Choctaw).
Newton County | American Indian (Choctaw).
Noxubee County | American Indian (Choctaw).
Scott County | American Indian (Choctaw).
Winston County | American Indian (Choctaw).
Nebraska:
Colfax County | Hispanic.
Dakota County | Hispanic.
Dawson County | Hispanic.
Nevada:
Clark County | Asian (Filipino).
Clark County | Hispanic.
New Jersey:
Bergen County | Hispanic.
Bergen County | Asian (Korean).
Camden County | Hispanic.
Cumberland County | Hispanic.
Essex County | Hispanic.
Hudson County | Hispanic.
Middlesex County | Hispanic.
Passaic County | Hispanic.
Union County | Hispanic.
New Mexico:
Bernalillo County | American Indian (Navajo).
Bernalillo County | American Indian (Pueblo).
Bernalillo County | Hispanic.
Catron County | American Indian (Pueblo).
Chaves County | Hispanic.
Cibola County | American Indian (Navajo).
Cibola County | American Indian (Pueblo).
Doña Ana County | Hispanic.
Eddy County | Hispanic.
Grant County | Hispanic.
Guadalupe County | Hispanic.
Harding County | Hispanic.
Hidalgo County | Hispanic.
Lea County | Hispanic.
Luna County | Hispanic.
McKinley County | American Indian (Navajo).
McKinley County | American Indian (Pueblo).
Mora County | Hispanic.
Rio Arriba County | American Indian (Navajo).
Rio Arriba County | Hispanic.
San Juan County | American Indian (Navajo).
San Miguel County | Hispanic.
Sandoval County | American Indian (Navajo).
Sandoval County | American Indian (Pueblo).
Santa Fe County | American Indian (Pueblo).
Socorro County | American Indian (Navajo).
Socorro County | American Indian (Pueblo).
Socorro County | Hispanic.
Taos County | Hispanic.
Valencia County | American Indian (Pueblo).
Valencia County | Hispanic.
New York:
Bronx County | Hispanic.
Kings County | Asian (Chinese).
Kings County | Hispanic.
Nassau County | Hispanic.
New York County | Asian (Chinese).
New York County | Hispanic.
Queens County | Asian (Asian Indian).
Queens County | Asian (Chinese).
Queens County | Hispanic.
Queens County | Asian (Korean).
Suffolk County | Hispanic.
Westchester County | Hispanic.
Pennsylvania:
Berks County | Hispanic.
Lehigh County | Hispanic.
Philadelphia County | Hispanic.
Rhode Island:
Central Falls city | Hispanic.
Pawtucket city | Hispanic.
Providence city | Hispanic.
Texas:
State Coverage | Hispanic.
Andrews County | Hispanic.
Atascosa County | Hispanic.
Bailey County | Hispanic.
Bee County | Hispanic.
Bexar County | Hispanic.
Brewster County | Hispanic.
Brooks County | Hispanic.
Caldwell County | Hispanic.
Calhoun County | Hispanic.
Cameron County | Hispanic.
Castro County | Hispanic.
Cochran County | Hispanic.
Concho County | Hispanic.
Crane County | Hispanic.
Crockett County | Hispanic.
Crosby County | Hispanic.
Culberson County | Hispanic.
Dallas County | Hispanic.
Dawson County | Hispanic.
Deaf Smith County | Hispanic.
Dimmit County | Hispanic.
Duval County | Hispanic.
Ector County | Hispanic.
Edwards County | Hispanic.
El Paso County | American Indian (Pueblo).
El Paso County | Hispanic.
Floyd County | Hispanic.
Fort Bend County | Hispanic.
Frio County | Hispanic.
Gaines County | Hispanic.
Garza County | Hispanic.
Glasscock County | Hispanic.
Gonzales County | Hispanic.
Guadalupe County | Hispanic.
Hale County | Hispanic.
Hansford County | Hispanic.
Harris County | Asian (Chinese).
Harris County | Hispanic.
Harris County | Asian (Vietnamese).
Hidalgo County | Hispanic.
Hockley County | Hispanic.
Hudspeth County | Hispanic.
Jim Hogg County | Hispanic.
Jim Wells County | Hispanic.
Karnes County | Hispanic.
Kenedy County | Hispanic.
Kinney County | Hispanic.
Kleberg County | Hispanic.
La Salle County | Hispanic.
Lamb County | Hispanic.
Live Oak County | Hispanic.
Lynn County | Hispanic.
Martin County | Hispanic.
Maverick County | American Indian (Kickapoo).
Maverick County | Hispanic.
Medina County | Hispanic.
Midland County | Hispanic.
Mitchell County | Hispanic.
Moore County | Hispanic.
Nolan County | Hispanic.
Nueces County | Hispanic.
Ochiltree County | Hispanic.
Parmer County | Hispanic.
Pecos County | Hispanic.
Presidio County | Hispanic.
Reagan County | Hispanic.
Reeves County | Hispanic.
Refugio County | Hispanic.
Runnels County | Hispanic.
San Patricio County | Hispanic.
San Saba County | Hispanic.
Schleicher County | Hispanic.
Scurry County | Hispanic.
Sherman County | Hispanic.
Starr County | Hispanic.
Sutton County | Hispanic.
Swisher County | Hispanic.
Tarrant County | Hispanic.
Terrell County | Hispanic.
Terry County | Hispanic.
Titus County | Hispanic.
Travis County | Hispanic.
Upton County | Hispanic.
Uvalde County | Hispanic.
Val Verde County | Hispanic.
Ward County | Hispanic.
Webb County | Hispanic.
Willacy County | Hispanic.
Wilson County | Hispanic.
Winkler County | Hispanic.
Yoakum County | Hispanic.
Zapata County | Hispanic.
Zavala County | Hispanic.
Utah:
Salt Lake County | Hispanic.
San Juan County | American Indian (Navajo).
Virginia:
Fairfax County | Hispanic.
Washington:
Adams County | Hispanic.
Franklin County | Hispanic.
King County | Asian (Chinese).
King County | Asian (Vietnamese).
Yakima County | Hispanic.
Wisconsin:
Milwaukee City | Hispanic.
¹ Clyde Township in Allegan County.

[FR Doc. 2011-26293 Filed 10-12-11; 8:45 am]

BILLING CODE 3510-07-P